SMALL BUSINESS ADMINISTRATION

Small Business Size Standards: Waiver of the Nonmanufacturer Rule

AGENCY: Small Business Administration (SBA).

ACTION: Notice of termination of waiver of the Nonmanufacturer Rule for Sporting and Athletic Goods Manufacturing.

SUMMARY: The U.S. Small Business Administration (SBA) is terminating the waiver of the Nonmanufacturer Rule for Sporting and Athletic Goods Manufacturing based on our recent discovery of a small business manufacturer for this class of products. Terminating this waiver will require recipients of contracts set aside for small businesses, service-disabled veteran-owned small businesses or SBA's 8(a) Business Development Program provide the product of domestic small business manufacturers or processors on such contracts.

DATES: This termination of waiver is effective November 7, 2005.

FOR FURTHER INFORMATION CONTACT: Edith G. Butler, Program Analyst, by telephone at (202) 619-0422; by FAX at (202) 481-1788; or by e-mail at edith.butler@sba.gov.

SUPPLEMENTARY INFORMATION: Section 8(a)(17) of the Small Business Act, (Act) 15 U.S.C. 637(A)(17), requires that receipts of Federal contracts set aside for small businesses, service-disabled veteran-owned small businesses, or SBA's 8(a) Business Development Program provide the product of a small business manufacturer or processor, if the recipient is other than the actual manufacturer or processor of the product. This requirement is commonly referred to as the Nonmanufacturer Rule.

The SBA regulations imposing this requirement are found at 13 CFR 121.406(b). Section 8(a)(17)(b)(iv) of the Act authorizes SBA to waive the Nonmanufacturer Rule for any “Class of Products” for which there are no small business manufacturers or processors available to participate in the Federal market.

As implemented in SBA's regulations at 13 CFR 121.1202(c), in order to be considered available to participate in the Federal market for a class of products, a small business manufacturer must have submitted a proposal for a contract solicitation or received a contract from the Federal government within the last 24 months. The SBA defines “class of products” based on a six digit North American Industry Classification System (NAICS) and the four digit Product and Service Code required as a data entry field by the Federal Procurement Data System.

The SBA received a request on May 17, 2005 to waive the Nonamnfacturer Rule for Sporting and Athletic Goods Manufacturing. In response, SBA published a notice in the Federal Register on July 28, 2005 of intent to terminate the waiver of the Nonmanufacturer Rule for Sporting and Athletic Goods Manufacturing.

In response to this notice, SBA discovered the existence of a small business manufacturer of this class of products. Accordingly, based on the available information, SBA has determined that there is a small business manufacturer of this class of products, and is therefore terminating the class waiver of the Nonmanufacturer Rule for Sporting and Athletic Goods Manufacturing, NAICS 339920.

Authority: 15 U.S.C. 637(a)(17).

Dated: October 13, 2005.
Karen C. Hontz,
Associate Administrator for Government Contracting.

[FR Doc. 05-21059 Filed 10-20-05; 8:45 am]

BILLING CODE 8025-01-P